ENVIRONMENTAL PROTECTION AGENCY

[EPA-R09-OAR-2019-0151, EPA-R09-OAR-2019-0181, EPA-R09-OAR-2019-0414, EPA-R09-OAR-2020-0249, EPA-R09-OAR-2022-0578, EPA-R09-OAR-2024-0258, EPA-R09-OAR-2024-0523, EPA-R09-OAR-2024-0193, EPA-R09-OAR-2024-0257, EPA-R09-OAR-2025-0231, and EPA-R09-OAR-2024-0416; FRL-13002-01-R9]

Approval of Clean Air Act General Permit Requests for Coverage for New Minor Source Gasoline Dispensing Facilities in Indian Country Within California

AGENCY: Environmental Protection Agency (EPA).

ACTION: Notice of final action.

SUMMARY: On various dates, the U.S. Environmental Protection Agency (EPA) issued approvals to Glenn Quiroga of the Sycuan Tribal Development Corporation, Chairman Steven Estrada of the Santa Rosa Band of Cahuilla Indians, the Agua Caliente Tribal Corporation, the Soboba Economic Development Corporation, the Twenty-Nine Palms Band of Mission Indians Tribal EPA, the Twenty-Nine Palms Economic Development Corporation, the Agua Caliente Tribal Corporation, the Pala Band of Mission Indians, and the Table Mountain Rancheria (“Permittees”) under the Clean Air Act's Tribal Minor New Source Review (NSR) Program. The EPA approved these Requests for Coverage under the General Air Quality Permit for New or Modified Minor Source Gasoline Dispensing Facilities in Indian Country within California (“CA-GDF General Permit”) for Sycuan Market, Santa Rosa Pit Stop, LLC, the Agua Caliente Tribal Corporation Gasoline Dispensing Facility, the Soboba Economic Development Corporation Gasoline Dispensing Facility, Coachella Crossroads Travel Center, Cielo Travel Center, Agua Caliente Fuel Palm Springs, Agua Caliente Fuel Cathedral City, Joshua Tree 96 Travel Center, the Pala Super Mart, and the Table Mountain Rancheria Gasoline Station (“Sources”). These approvals authorized the construction of these Sources under the Tribal Minor NSR Program.

DATES: The Requests for Coverage were approved by the EPA on various dates. See the SUPPLEMENTARY INFORMATION section. Pursuant to section 307(b)(1) of the Clean Air Act, judicial review of this final agency decision, to the extent it is available, may be sought by filing a petition for review in the United States Court of Appeals for the Ninth Circuit within 60 days of March 6, 2026.

ADDRESSES: The EPA has established dockets for this action under Docket Nos. EPA-R09-OAR-2019-0151, EPA-R09-OAR-2019-0181, EPA-R09-OAR-2019-0414, EPA-R09-OAR-2020-0249, EPA-R09-OAR-2022-0578, EPA-R09-OAR-2024-0258, EPA-R09-OAR-2024-0523, EPA-R09-OAR-2024-0193, EPA-R09-OAR-2024-0257, EPA-R09-OAR-2025-0231, and EPA-R09-OAR-2024-0416. All documents in the dockets are listed on the https://www.regulations.gov website. Although listed in an index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Catherine Valladolid, EPA Region 9, (415) 947-4103, valladolid.catherine@epa.gov. The EPA's final approval decisions, the Technical Support Documents for these actions, and all other supporting information are available through www.regulations.gov under the Docket IDs listed in the ADDRESSES section.

SUPPLEMENTARY INFORMATION:

Notice of Final Action

The EPA approved eleven Requests for Coverage under the CA-GDF General Permit ¹ submitted by the Permittees. The Requests for Coverage under the CA-GDF General Permit were approved on the dates listed in Table 1. These approvals pertain to the construction and operation of the Sources, all of which are gasoline dispensing facilities, located or to be located in Indian country in California. The EPA issued the approvals pursuant to the provisions of Clean Air Act sections 110(a) and 301(d) and the EPA's Tribal Minor NSR Program at 40 CFR 49.151-49.164. The EPA based its approvals on its determinations that the Sources met the criteria qualifying them for coverage and that the Sources were eligible for coverage under the CA-GDF General Permit.

¹ The CA-GDF General Permit was issued by the EPA under the Tribal Minor NSR Program on May 1, 2019, and the permit became effective June 12, 2019. 84 FR 20879 (May 13, 2019). This permit is available on https://www.regulations.gov under Docket ID EPA-R09-OAR-2016-0580.

² On July 31, 2025, the EPA issued a minor NSR permit to Agua Caliente Fuel Rancho Mirage (formerly the Agua Caliente Tribal Corporation Gasoline Dispensing Facility). This permit allows for increased fuel throughout at Agua Caliente Fuel Rancho Mirage. As a result, Agua Caliente Fuel Rancho Mirage no longer qualifies for coverage under the CA-GDF General Permit. See Docket ID EPA-R09-OAR-2024-0455 at https://www.regulations.gov.

³ On May 31, 2022, the EPA issued an amended approval to the Soboba Economic Development Corporation's Request for Coverage for Roadrunner Express (formerly the Soboba Economic Development Corporation Gasoline Dispensing Facility), submitted on February 10, 2022 (Application #2022-004-AA). See Docket ID EPA-R09-OAR-2022-0288 at https://www.regulations.gov.

⁴ On August 5, 2025, the EPA issued an amended approval to the Agua Caliente Tribal Corporation's Request for Coverage for Agua Caliente Fuel Cathedral City, submitted on July 17, 2025 (Application #2024-014-AA). See Docket ID EPA-R09-OAR-2025-0982 at https://www.regulations.gov.

Table 1—Source Approvals Under the CA-GDF General Permit
Source | Location | Docket ID | Approval date
Sycuan Market | El Cajon, CA | EPA-R09-OAR-2019-0151 | June 28, 2019.
Santa Rosa Pit Stop, LLC | Mountain Center, CA | EPA-R09-OAR-2019-0181 | June 28, 2019.
Agua Caliente Tribal Corporation Gasoline Dispensing Facility ² | Rancho Mirage, CA | EPA-R09-OAR-2019-0414 | September 10, 2019.
Soboba Economic Development Corporation Gasoline Dispensing Facility | San Jacinto, CA | EPA-R09-OAR-2020-0249 | June 25, 2020.³
Coachella Crossroads Travel Center | Coachella, CA | EPA-R09-OAR-2022-0578 | October 5, 2022.
Cielo Travel Center | Coachella, CA | EPA-R09-OAR-2024-0258 | April 8, 2025.
Agua Caliente Fuel Palm Springs | Palm Springs, CA | EPA-R09-OAR-2024-0523 | April 8, 2025.
Agua Caliente Fuel Cathedral City | Cathedral City, CA | EPA-R09-OAR-2024-0193 | June 4, 2025.⁴
Joshua Tree 96 Travel Center | Joshua Tree, CA | EPA-R09-OAR-2024-0257 | June 30, 2025.
Pala Super Mart | Pala, CA | EPA-R09-OAR-2025-0231 | August 12, 2025.
Table Mountain Rancheria Gasoline Station | Friant, CA | EPA-R09-OAR-2024-0416 | August 18, 2025.

The EPA's Clean Air Act approvals for these Sources are final agency actions for purposes of judicial review only for the issue of whether the Sources qualify for coverage under the CA-GDF General Permit. 40 CFR 49.156(e)(6).

Dated: November 18, 2025.
Anita Lee,
Acting Director, Air and Radiation Division, Region IX.

[FR Doc. 2025-24253 Filed 1-2-26; 8:45 am]

BILLING CODE 6560-50-P